DEPARTMENT OF THE INTERIOR

National Park Service

[NPS-WASO-NAGPRA-NPS002746; PPWOCRADN0-PCU00RP14.R50000]

Notice of Inventory Completion: Robert S. Peabody Institute of Archaeology, Andover, MA

AGENCY: National Park Service, Interior.

ACTION: Notice.

SUMMARY: The Robert S. Peabody Institute of Archaeology has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to the Robert S. Peabody Institute of Archaeology. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Robert S. Peabody Institute of Archaeology at the address in this notice by May 24, 2019.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of associated funerary objects under the control of the Robert S. Peabody Institute of Archaeology, Andover, MA. The associated funerary objects were removed from Betheia Farm-Touisett Point #2, Warren, Bristol County, RI.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the Robert S. Peabody Institute of Archaeology professional staff in consultation with representatives of the Wampanoag Repatriation Confederacy, representing the Mashpee Wampanoag Tribe (previously listed as the Mashpee Wampanoag Indian Tribal Council, Inc.), the Wampanoag Tribe of Gay Head (Aquinnah), and the Assonet Band of the Wampanoag Nation, a non-federally recognized Indian group.

History and Description of the Remains

In 1983, Maurice Robbins removed human remains representing, at minimum, one individual from the Betheia Farm-Touisett Point #2 site in Warren, Bristol County, RI, which were transferred to the Phillips Academy Department of Archaeology (now the Robert S. Peabody Institute of Archaeology). The human remains were reported in a notice of inventory completion published in the Federal Register (80 FR 10500-10501, February 26, 2015) and repatriated on August 24, 2018. The 25 associated funerary objects are 12 projectile points, eight broken projectile point bases, three hammerstones, one ceramic rim sherd, and one rim fragment from a soapstone bowl.

Information about the Betheia Farm-Touisett Point #2 site is found in the files of the Robert S. Peabody Institute of Archaeology and the files of the Rhode Island Historical Preservation & Heritage Commission (site numbers 1349 and 1350). Records at the former institution indicate that human remains washed out of the site during a storm and were collected by Robbins. The storm event may have been the “Great Hurricane” of September 1938, though a sketch map on file indicates erosion was already occurring in 1937. The site is described as a high sandy bluff facing Mount Hope Bay sitting on a very abrupt slope approximately 25 feet back from the beach. Projectile point styles suggest a Middle/Late Archaic to Early Woodland age for the human remains and associated funerary objects (8000—2000 B.P.). Robbins noted other artifacts from the site including points, hammerstones, fragmentary pestle, steatite bowl, and pottery fragments, matching the description of the associated funerary objects described above, and which were located in the Robert S. Peabody Institute's collections at the time the human remains were repatriated. Archeology, ethnohistory, linguistics, and oral history provide multiple lines of evidence that demonstrate longstanding ties between the Wampanoag and the area around Touisett Point and affirm affiliation with the burial at the Betheia Farm-Touisett Point #2 site.

Determinations Made by the Robert S. Peabody Institute of Archaeology

Officials of the Robert S. Peabody Institute of Archaeology have determined that:

• Pursuant to 25 U.S.C. 3001(3)(A), the 25 objects described in this notice are reasonably believed to have been placed with or near individual human remains at the time of death or later as part of the death rite or ceremony.

• Pursuant to 25 U.S.C. 3001(2), there is a relationship of shared group identity that can be reasonably traced between the Native American associated funerary objects and the Mashpee Wampanoag Tribe (previously listed as the Mashpee Wampanoag Indian Tribal Council, Inc.), the Wampanoag Tribe of Gay Head (Aquinnah), and, if joined, the Assonet Band of the Wampanoag Nation, a non-federally recognized Indian group.

Additional Requestors and Disposition

Lineal descendants or representatives of any Indian Tribes or Native Hawaiian organization not identified in this notice that wish to request transfer of control of these associated funerary objects should submit a written request with information in support of the request to Ryan Wheeler, Robert S. Peabody Institute of Archaeology, Phillips Academy, 180 Main Street, Andover, MA 01810, telephone (978) 749-4490, email rwheeler@andover.edu, by May 24, 2019. After that date, if no additional requestors have come forward, transfer of control of the associated funerary objects to the Wampanoag Repatriation Confederacy, representing the Mashpee Wampanoag Tribe (previously listed as the Mashpee Wampanoag Indian Tribal Council, Inc.); the Wampanoag Tribe of Gay Head (Aquinnah); and, if joined to a request from one or both of these Indian Tribes, the Assonet Band of the Wampanoag Nation, a non-federally recognized Indian group, may proceed.

The Robert S. Peabody Institute of Archaeology is responsible for notifying the Mashpee Wampanoag Tribe (previously listed as the Mashpee Wampanoag Indian Tribal Council, Inc.); the Wampanoag Tribe of Gay Head (Aquinnah); and the Assonet Band of the Wampanoag Nation, a non-federally recognized Indian group, that this notice has been published.

Dated: March 11, 2019.
Melanie O'Brien,
Manager, National NAGPRA Program.

[FR Doc. 2019-08226 Filed 4-23-19; 8:45 am]

BILLING CODE 4312-52-P